DEPARTMENT OF COMMERCE

Foreign-Trade Zones Board

[B-42-2019]

Foreign-Trade Zone (FTZ) 92—Gulfport, Mississippi; Notification of Proposed Production Activity; Vision Technologies Marine, Inc. (Ocean Going-Vessels: Compensators) Pascagoula, Mississippi

Vision Technologies Marine, Inc. (Vision Tech) submitted a notification of proposed production activity to the FTZ Board for its facility in Pascagoula, Mississippi. The notification conforming to the requirements of the regulations of the FTZ Board (15 CFR 400.22) was received on June 19, 2019.

Vision Tech already has authority to produce ocean-going vessels, offshore platforms, and floating docks within FTZ 92. The current request would add a finished product and a range of foreign status materials/components to the scope of authority. Pursuant to 15 CFR 400.14(b), additional FTZ authority would be limited to the specific foreign-status materials/components and specific finished product described in the submitted notification (as described below) and subsequently authorized by the FTZ Board.

Production under FTZ procedures could exempt Vision Tech from customs duty payments on the foreign-status materials/components used in export production. On its domestic sales, for the foreign-status materials/components noted below and in the existing scope of authority, Vision Tech would be able to choose the duty rates during customs entry procedures that apply to crown mounted compensators (duty-free). Vision Tech would be able to avoid duty on foreign-status components which become scrap/waste. Customs duties also could possibly be deferred or reduced on foreign-status production equipment.

The materials/components sourced from abroad include: Piston accumulators; various assemblies (cylinder; header; cable; junction box layout; sheave); various steel components (pressure vessels; adapters and adapter fittings; adapter rings; retaining rings; lip seals; nuts; cap screws; locking and closing plates; axle retainers; bearing pads; platform supports; pipe support brackets; shims; guide rails; platform and derrick frames; beams; links and link arms; liquid storage tanks; springs; clamps; test ports; U-bolts; threaded rods; rings; couplings; shackles); filter elements; return filter elements, hydrojet propulsion units; various rubber components (O-rings; grommets; bumpers); stainless steel adapters and connectors; various valves (Y-block; copper ball; hydraulic and pneumatic; pressure; stainless steel in-line check); hydraulic power units; various plates (crown block support; clamp; steel cover; Teflon™); various pins (steel; pivot; bent); nameplates for cables; clamp spacers; various structural steel components (linkage arm supports; pressure vessel supports; aircraft warning light supports); lifting lugs; cylinder cradles; linkage arms; junction box supports; cabinet support frames; ventlines; ventline supports; lifting beams; transport beams; tape; pressure sensors; lubricants; adapters for hydrojets; adapters for propulsion units; various electrical components (termination boxes; cable; adhesives; sensors; connectors; control cabinets; plugs; sockets); various washers (nylon; steel; plastic; steel spring and lock; Teflon™); plastic clamps; pressure gauges; neoprene rubber shaft bearings; lighting junction box tubing adapters; synthetic rubber bumpers; filters; flanges for welding; fiberglass safety gates; eyes and eye turnbuckles; wire rope; safety wire rope; non-armour glands; armour glands; light bulbs; fluorescent lights; incandescent and LED lighting; plastic clamp bodies; and, urethane pipe sleeves (duty rate ranges from duty-free to 6.5%). The request indicates that tape will be admitted to the zone in privileged foreign status (19 CFR 146.41), thereby precluding inverted tariff benefits on that item. The request also indicates that certain materials/components are subject to special duties under Section 232 of the Trade Expansion Act of 1962 (Section 232) and/or Section 301 of the Trade Act of 1974 (Section 301), depending on the country of origin. The applicable Section 232 and Section 301 decisions require subject merchandise to be admitted to FTZs in privileged foreign status.

Public comment is invited from interested parties. Submissions shall be addressed to the Board's Executive Secretary and sent to: ftz@trade.gov. The closing period for their receipt is August 12, 2019.

A copy of the notification will be available for public inspection in the “Reading Room” section of the Board's website, which is accessible via www.trade.gov/ftz.

For further information, contact Juanita Chen at juanita.chen@trade.gov or 202-482-1378.

Dated: June 26, 2019.
Andrew McGilvray,
Executive Secretary.

[FR Doc. 2019-13981 Filed 6-28-19; 8:45 am]

BILLING CODE 3510-DS-P